DEPARTMENT OF TRANSPORTATION

Coast Guard

[USCG-2002-12897]

Commercial Fishing Industry Vessel Advisory Committee; Correction

AGENCY: Coast Guard, DOT.

ACTION: Notice of meeting, correction of dates.

SUMMARY: The Coast Guard published a notice in the Federal Register of July 26, 2002 announcing a meeting of the Commercial Fishing Industry Vessel Advisory Committee (CFIVAC). The notice contained incorrect dates. This notice corrects those dates.

DATES: This correction is effective August 6, 2002. The CFIVAC will meet on Tuesday, August 20, 2002, from 9 a.m. to 5 p.m. and Wednesday, August 21, 2002, from 9 a.m. to 5 p.m.

FOR FURTHER INFORMATION CONTACT: Mr. Kevin Frost, Assistant to the CFIVAC Executive Director, telephone (202) 267-0315, fax (202) 267-0506.

SUPPLEMENTARY INFORMATION: The Coast Guard published a document in the Federal Register of July 26, 2002, (67 FR 48964) announcing a meeting of the Commercial Fishing Industry Vessel Advisory Committee (CFIVAC). We listed incorrect dates in the notice. This correction replaces the incorrect dates with the correct dates. The days of the week remain the same as do the non-meeting dates in the notice.

In notice FR Doc. 02-18915 published on July 26, 2002, (67 FR 48964) make the following correction. On page 48964, in the second column, starting on line 14, remove the first sentence in the DATES section, and, add in its place, the sentence “CFIVAC will meet on Tuesday, August 20, 2002, from 9 a.m. to 5 p.m. and Wednesday, August 21, 2002, from 9 a.m. to 5 p.m.”

Dated: July 31, 2002.
Joseph J. Angelo,
Acting Assistant Commandant Marine Safety, Security and Environmental Protection.

[FR Doc. 02-19848 Filed 8-5-02; 8:45 am]

BILLING CODE 4910-15-P